DEPARTMENT OF THE INTERIOR

National Park Service

[NPS-WASO-NAGPRA-14381; PPWOCRADN0-PCU00RP14.R50000]

Notice of Intent To Repatriate Cultural Items: Denver Art Museum, Denver, CO

AGENCY: National Park Service, Interior.

ACTION: Notice.

SUMMARY: The Denver Art Museum, in consultation with the appropriate Indian tribes or Native Hawaiian organizations, has determined that the cultural items listed in this notice meet the definition of sacred objects and objects of cultural patrimony. Lineal descendants or representatives of any Indian tribe or Native Hawaiian organization not identified in this notice that wish to claim these cultural items should submit a written request to the Denver Art Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Denver Art Museum at the address in this notice by January 2, 2014.

ADDRESSES: John P. Lukavic, Ph.D., Denver Art Museum, 100 W 14th Avenue Parkway, Denver, CO 80204, telephone (720) 913-0160, email JLukavic@denverartmuseum.org.

SUPPLEMENTARY INFORMATION: Notice is here given in accordance with the Native American Graves Protection and Repatriation Act (NAGPRA), 25 U.S.C. 3005, of the intent to repatriate cultural items under the control of the Denver Art Museum, Denver, CO, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1903, one cultural item was removed from the Pueblo of Laguna in Cibola, Valencia, Bernalillo and Sandoval counties, NM. One other cultural item is believed to have been removed from the same community at the same time. These two items were collected by Stewart Culin, the first curator that collected American Indian items for the Brooklyn Museum. The Denver Art Museum subsequently acquired the two items from the Brooklyn Museum through an exchange in 1948. The items are two Katsina Friends and meet the definition of both objects of cultural patrimony and sacred objects.

The review of available documentation, in addition to physical inspections by multiple Pueblo of Laguna delegations, has resulted in confirmation from Pueblo of Laguna religious leaders that the two Katsina Friends are of Pueblo of Laguna origin. The Pueblo of Laguna asserts that a relationship of shared group identity exists between the Pueblo of Laguna in 1903, and the present-day Pueblo of Laguna. These Katsina Friends were created within the Pueblo of Laguna religious system with construction techniques still used today. In addition to the positive identification by Laguna religious leaders that the two Katsina Friends are of Laguna Pueblo origin, cultural affiliation with the Pueblo of Laguna is evident by a variety of diagnostic features. The catalog cards also associate these two items with “Laguna.”

Determinations Made by the Denver Art Museum

Officials of the Denver Art Museum have determined that:

• Pursuant to 25 U.S.C. 3001(3)(C), the two cultural items described above are specific ceremonial objects needed by traditional Native American religious leaders for the practice of traditional Native American religions by their present-day adherents.

• Pursuant to 25 U.S.C. 3001(3)(D), the two cultural items described above have ongoing historical, traditional, or cultural importance central to the Native American group or culture itself, rather than property owned by an individual.

• Pursuant to 25 U.S.C. 3001(2), there is a relationship of shared group identity that can be reasonably traced between the sacred objects and objects of cultural patrimony and the Pueblo of Laguna, New Mexico.

Additional Requestors and Disposition

Lineal descendants or representatives of any Indian tribe or Native Hawaiian organization not identified in this notice that wish to claim these cultural items should submit a written request with information in support of the claim to John P. Lukavic, Ph.D., Denver Art Museum, 100 W 14th Avenue Pkwy, Denver, CO 80204, telephone (720) 913-0160, email JLukavic@denverartmuseum.org, by January 2, 2014. After that date, if no additional claimants have come forward, transfer of control of the sacred objects and objects of cultural patrimony to Pueblo of Laguna, New Mexico may proceed.

The Denver Art Museum is responsible for notifying the Pueblo of Laguna that this notice has been published.

Dated: October 30, 2013.
Sherry Hutt,
Manager, National NAGPRA Program.

[FR Doc. 2013-28929 Filed 12-2-13; 8:45 am]

BILLING CODE 4312-50-P